DEPARTMENT OF HOMELAND SECURITY

Coast Guard

33 CFR Part 165

[USCG-2006-25767; formerly CGD09-06-123]

Safety Zones; U.S. Coast Guard Water Training Areas, Great Lakes

AGENCY: Coast Guard, DHS.

ACTION: Notice of public meetings.

SUMMARY: This document provides the times and locations of the public meetings which will be held by the Coast Guard to discuss issues relating to the proposed permanent safety zones located in the Great Lakes to conduct live gunnery training exercises. The meetings will be open to the public.

DATES: The Coast Guard will hold four public meetings as follows: Monday, October 16, 2006 in Duluth MN; Wednesday October 18, 2006 in Grand Haven/Spring Lake, MI; Thursday, October 19, 2006 in Port Huron/Marysville, MI; Monday, October 23, 2006 in Cleveland, OH. The public meetings at each location will be held from 5:30 p.m. to 8 p.m. (local), with an open house prior to the start of the public meeting beginning at 4 p.m. (local).

Comments and material related to the public meetings must reach the Docket Management Facility on or before October 6, 2006. If you are unable to attend, you may submit comments to the Docket Management Facility at the address under ADDRESSES by November 13, 2006.

ADDRESSES: The Coast Guard will hold the public meetings at the following addresses:

1. Duluth, MN: Duluth Convention Center, 350 Harbor Drive, Duluth, MN 55802, telephone (218) 722-5573.

2. Grand Haven/Spring Lake, MI: Grand Haven Waterfront Holiday Inn, 940 West Savidge, Spring Lake, MI 49456, telephone (616) 846-1000.

3. Port Huron/Marysville, MI: Crystal Gardens, 1200 Gratiot Boulevard, Marysville, MI, 48080, telephone, (810) 364-6650.

4. Cleveland OH: Anthony J. Celebrezze Federal Building, 31st floor auditorium, 1240 E 9th Street, Cleveland, OH 44199, telephone (216) 902-6020; photo identification required for entrance.

You may also submit your comments and related material by only one of the following means:

(1) By mail to the Docket Management Facility (USCG-2006-2567), U.S. Department of Transportation, room PL-401, 400 Seventh Street, SW., Washington, DC 20590-0001.

(2) By delivery to room PL-401 on the Plaza level of the Nassif Building, 400 Seventh Street, SW., Washington, DC between 9 a.m. and 5 p.m. Monday through Friday, except Federal Holidays. The telephone number is 202-366-9329.

(3) By fax to the Docket Management Facility at 202-493-2251.

(4) Electronically through the Web site for the Docket Management System at http://dms.dot.gov.

The Docket Management Facility maintains the public docket for the rulemaking. Comments and material received from the public will become part of this docket and will be available for inspection or copying at room PL-401, located on the Plaza level of the Nassif Building at the same address between 9 a.m. and 5 p.m., Monday through Friday, except Federal holidays. You may electronically access the public docket by performing a “Simple Search” for docket number 25767 on the internet at http://dms.dot.gov.

Electronic forms of all comments received into any of our dockets can be searched by the name of the individual submitting the comment (or signing the comment, if submitted on behalf of an association, business, labor unit, etc.) and is open to the public without restriction. You may review the Department of Transportation's complete Privacy Act Statement in the Federal Register published on April 11, 2000 (65 FR 19477-78), or you may visit http://dms.dot.gov/.

FOR FURTHER INFORMATION CONTACT: For further information concerning this notice and the public meeting, contact Commander Gustav Wulfkuhle, Chief Enforcement Branch, Ninth Coast Guard District, Cleveland, Ohio at (216) 902-6091. If you have any questions on viewing or submitting material to the docket, call Renee V. Wright, Program Manager, Docket Operations, telephone 202-493-0402.

SUPPLEMENTARY INFORMATION: The Coast Guard encourages interested persons to submit written data, views, or comments. Persons submitting comments should please include their name and address and identify the docket number (USCG-2006-25767). You may submit your comments and material by mail, hand delivery, fax or electronic means to the Docket Management Facility at the address under ADDRESSES.

Regulatory History

On August 1, 2006, the Coast Guard published a notice of proposed rulemaking (NPRM) (71 FR 43402) to establish permanent safety zones throughout the Great Lakes, which would restrict vessels from portions of the Great Lakes during live fire gun exercises that will be conducted by Coast Guard cutters and small boats. The initial comment period for this NPRM ended on August 31, 2006. In response to public requests, the Coast Guard re-opened the comment period on this NPRM. (71 FR 53629, September 12, 2006) Re-opening the comment period from September 12, 2006 to November 13, 2006, provides the public more time to submit comments and recommendations. On September 19, 2006, the Coast Guard published a brief document announcing the dates of public meetings and indicating that more detailed information related to the meetings would be published at a later date (71 FR 54792). This document provides detailed information regarding the actual location of the public meetings and topics to be discussed.

Background and Purpose

The thirty-four permanent safety zones proposed in the NPRM will be located throughout the Great Lakes in order to accommodate the training needs of 57 separate Coast Guard units. The proposed safety zones are all located more than three nautical miles from the shoreline. Establishing permanent training areas serves to notify the public and solicit its input on selection of the training locations.

The proposed safety zones will be enforced only when training is conducted, and then only after notice by the Captain of the Port for the area in which the exercise will be held. The Captain of the Port will use all appropriate means to effect the widest publicity among the affected segments of the public, including publication in the Federal Register if practicable, in accordance with 33 CFR 65.7(a). Such means of notification may also include, but are not limited to, Broadcast Notice to Mariners or Local Notice to Mariners. The appropriate Captain of the Port will also issue a Broadcast Notice to Mariners and Local Notice to Mariners notifying the public when enforcement of a live fire exercise safety zone is suspended.

Interested individuals are encouraged to attend the open house forums and public meetings, provide comments and ask questions about the weapons training areas.

Meeting Times and Topics

The meetings are expected to run from 5:30 p.m. to 8 p.m. (local). We may end the meetings early if there are no additional comments or questions. Topics to be covered during the public meetings include the following:

(1) Introduction of the proposed zones and the need to train on the Great Lakes;

(2) How the Coast Guard determined the locations of the zones;

(3) Scheduling and frequency of training in the zones;

(4) Notification procedures;

(5) Safety procedures;

(6) Weapons and munitions; and

(7) Environmental risk assessment overview.

Before the start of the formal public meetings, from 4 p.m. to 5:30 p.m. (local), the Coast Guard is hosting an open house so that the public can speak with Coast Guard personnel and obtain more information on the proposed zones.

Procedure

Each open house and meeting is open to the public. Ideally, comments will provide specific information and facts related to the impact of the zone(s) on the commenter. Detailed and focused comments will enable the Coast Guard to address identified areas of concern in the rulemaking process. Please note that the meeting may close early if all business is finished. If you are unable to attend, you may submit comments to the Docket Management Facility at the address under ADDRESSES by November 13, 2006.

Information on Services for Individuals With Disabilities

If you plan to attend any of the public meetings and require special assistance, such as sign language interpretation or other reasonable accommodations, please contact us as indicated in FOR FURTHER INFORMATION CONTACT. Requests for special assistance should reach the Coast Guard within 7 business days of the meeting you plan to attend.

Dated: September 21, 2006.
John E. Crowley, Jr.,
Rear Admiral, U.S. Coast Guard, Commander, Ninth Coast Guard District.

[FR Doc. E6-15890 Filed 9-26-06; 8:45 am]

BILLING CODE 4910-15-P